DEPARTMENT OF DEFENSE

Office of the Secretary

Meetings: Independent Review Panel To Study the Relationships Between Military Department General Counsels and Judge Advocates General

AGENCY: Department of Defense.

ACTION: Notice; Meeting of the Independent Review Panel to Study the Relationships between Military Department General Counsels and Judge Advocates General—Open Meeting.

SUMMARY: Pursuant to the Federal Advisory Committee Act (FACA), Public Law 96-463, notice is hereby given that the Independent Review Panel to Study the Relationships between Military Department General Counsels and Judge Advocates General will hold an open meeting at the Hilton Crystal City, 2399 Jefferson Davis Highway, Arlington, Virginia 22202, on July 28-29, 2005, from 8:30 a.m. to 11:30 a.m. and 1 p.m. to 4 p.m. The Panel will meet to conduct deliberations and to address other matters the Panel deems appropriate concerning the relationships between the legal elements of their respective Military Departments. These sessions will be open to the public, subject to the availability of space. In keeping with the spirit of FACA, the Panel welcomes written comments concerning its work from the public at any time. Interested citizens are encouraged to attend the sessions.

DATES: July 28-29, 2005: 8:30 a.m.—11:30 a.m., and 1 p.m.—4 p.m.

Location: Hilton Crystal City, 2399 Jefferson Davis Highway, Arlington, Virginia 22202.

FOR FURTHER INFORMATION CONTACT: Any member of the public wishing further information concerning this meeting or wishing to submit written comments may contact: Mr. James R. Schwenk, Designated Federal Official, Department of Defense Office of the General Counsel, 1600 Defense Pentagon, Arlington, Virginia 20301-1600, Telephone: (703) 697-9343, Fax: (703) 693-7616, schwenkj@dodgc.osd.mil.

Interested persons may submit a written statement for consideration by the Panel at any time prior to July 21, 2005.

Dated: July 5, 2005.
Jeannette Owings-Ballard,
OSD Federal Register Liaison Officer, Department of Defense.

[FR Doc. 05-13481 Filed 7-7-05; 8:45 am]

BILLING CODE 5001-06-P